DEPARTMENT OF DEFENSE

Office of the Secretary

[Docket ID: DoD-2013-OS-0227]

Submission for OMB Review; Comment Request

ACTION: Notice.

SUMMARY: The Department of Defense has submitted to OMB for clearance, the following proposal for collection of information under the provisions of the Paperwork Reduction Act.

DATES: Consideration will be given to all comments received by January 7, 2015.

FOR FURTHER INFORMATION CONTACT: Fred Licari, 571-372-0493.

SUPPLEMENTARY INFORMATION: Title, Associated Form and OMB Number: Personnel Security Investigation Projection for Industry Survey; OMB Control Number 0704-0417.

Type of Request: Reinstatement.

Number of Respondents: 13,137.

Responses per Respondent: 1.

Annual Responses: 13,137.

Average Burden per Response: 95 minutes total: 80 minutes (Industry Survey); 15 minutes (Contact Validation Test).

Annual Burden Hours: 20,800 hours

Needs and Uses: Executive order (E.O.) 12829, “National Industrial Security Program (NISP),” stipulates that the Secretary of Defense shall serve as the Executive Agent for inspecting and monitoring the contractors, licensees, and grantees who require or will require access to classified information; and for determining the eligibility for access to classified information of contractors, licensees, and grantees and their respective employees. The Under Secretary of Defense for Intelligence assigned Defense Security Service (DSS) the responsibility for central operational management of DoD personnel security investigation (PSI) workload projections, and for monitoring of PSI funding and investigation quality issues for DoD components. This responsibility includes managing workload projections, along with funding and quality oversight matters related to PSIs conducted for employees and consultants of contractors cleared under the NISP. Prior to 2001, DSS compared historical PSI data for budget formulation. Since 2001, DSS conducted an annual survey of cleared contractors to more accurately assess personnel security and trustworthiness investigation requirements. In this annual collection of information, DSS asks the Facility Security Officers of cleared contractor entities to provide for each of three fiscal years (e.g., 2015, 2016, 2017): Projections of the numbers and types of personnel security investigations (PSIs) required; a description of methodology used for the projections; and estimates of the numbers and types of cleared contractor's PSI projections that are separately attributable to DoD contracts and the contracts of non-DoD agencies. The data will be incorporated into DSS's budget submissions and will be used to track against cleared contractors' actual PSI submissions. The Office of Personnel Management (OPM) has responsibility for conducting PSIs and the subsequent periodic reinvestigations (PRs) in accordance with the Code of Federal Regulations, Title 5, Part 736. Cleared contractors, representatives of various industry associations, the National Industrial Security Program Policy Advisory Committee (NISPPAC), various components of the department of Defense (including the Military Departments) and other Federal Government agencies are familiar with the annual survey.

Affected Public: Business or other for-profit; Not-for-profit institutions under Department of Defense Security Cognizance.

Frequency: Annually.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: December 3, 2014.
Aaron Siegel,
Alternate OSD Federal Register Liaison Officer, Department of Defense.

[FR Doc. 2014-28657 Filed 12-5-14; 8:45 am]

BILLING CODE 5001-06-P